DEPARTMENT OF THE INTERIOR

Fish and Wildlife Service

[FWS-R5-R-2012-N126; BAC-4311-K9-S3]

Great Bay National Wildlife Refuge, Rockingham County, NH; Final Comprehensive Conservation Plan and Finding of No Significant Impact

AGENCY: Fish and Wildlife Service, Interior.

ACTION: Notice of availability.

SUMMARY: We, the U.S. Fish and Wildlife Service (Service), announce the availability of the final comprehensive conservation plan (CCP) and finding of no significant impact (FONSI) for Great Bay National Wildlife Refuge (NWR, refuge) in Newington, New Hampshire, which includes the Karner blue butterfly conservation easement in Concord, New Hampshire. Great Bay NWR is administered by Parker River NWR in Newburyport, Massachusetts. In this final CCP, we describe how we will manage the refuge and Karner blue butterfly conservation easement for the next 15 years.

ADDRESSES: You may view or obtain copies of the final CCP and FONSI by any of the following methods. You may request a hard copy or a CD-ROM.

Agency Web site: Download a copy of the document at http://www.fws.gov/northeast/planning/Great%20bay/ccphome.html.

Email: Send requests to northeastplanning@fws.gov. Include “Great Bay Refuge CCP” in the subject line of your email.

Mail: Nancy McGarigal, Natural Resource Planner, U.S. Fish and Wildlife Service, 300 Westgate Center Drive, Hadley, MA 01035.

Fax: Attention: Nancy McGarigal, 413-253-8468.

In-Person Viewing or Pickup: Call 978-465-5753 to make an appointment during regular business hours at the Parker River NWR office, 6 Plum Island Turnpike, Newburyport, MA 01950.

FOR FURTHER INFORMATION CONTACT: Graham Taylor, Refuge Manager, Parker River NWR, 6 Plum Island Turnpike, Newburyport, MA 01950; 978-465-5753 (phone); 978-465-2807 (fax); fw5rw_prnwr@fws.gov (email).

SUPPLEMENTARY INFORMATION:

Introduction

With this notice, we finalize the CCP process for Great Bay NWR. We started this process through a notice of intent in the Federal Register (74 FR 28722) on June 17, 2009. We announced the release of the draft CCP/environmental assessment (EA) to the public and requested comments in a notice of availability in the Federal Register (77 FR 7176) on February 10, 2012.

The Service established Great Bay NWR in 1992 to protect the natural diversity of fish, wildlife, and plants within its boundaries, protect federally listed species, preserve and enhance water quality and aquatic habitats, and fulfill the United State's international treaty obligations relating to fish and wildlife resources. The refuge is located in the town of Newington in southeastern New Hampshire, on the eastern shore of the tidally influenced Great Bay Estuary. Prior to its establishment, refuge lands were part of the former Pease Air Force Base. The 1,103-acre refuge is the largest parcel of protected land on Great Bay Estuary, and includes a rich diversity of habitat types including oak-hickory forests, grasslands, shrub thickets, freshwater and saltwater wetlands, open water, and rocky shoreline.

Great Bay NWR also includes the Karner blue butterfly conservation easement in Concord, New Hampshire. The 29-acre conservation easement is managed for the federally endangered Karner blue butterfly, and also supports other rare moths and butterflies. It primarily consists of a mix of open pitch pine/scrub oak, pine-hardwood, and other shrubland habitat.

We announce our decision and the availability of the FONSI for the final CCP for Great Bay NWR in accordance with National Environmental Policy Act (NEPA) (42 U.S.C. 4321 et seq.) requirements. We completed a thorough analysis of impacts on the human environment, which we included in the draft CCP/EA.

The CCP will guide us in managing and administering Great Bay NWR for the next 15 years. Alternative B, as described for the refuge in the draft CCP/EA, and with the modifications described below, is the foundation for the final CCP.

Background

The National Wildlife Refuge System Administration Act of 1966 (16 U.S.C. 668dd-68ee) (Refuge Administration Act), as amended by the National Wildlife Refuge System Improvement Act of 1997, requires us to develop a CCP for each NWR. The purpose for developing a CCP is to provide refuge managers with a 15-year plan for achieving refuge purposes and contributing to the mission of the National Wildlife Refuge System (NWRS), consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years, in accordance with the Refuge Administration Act.

CCP Alternatives, Including the Selected Alternative

Our draft CCP/EA (77 FR 7176) addressed several key issues, including:

• Managing a diversity of habitat types, including grasslands, shrublands, wetlands, and forest to benefit Federal and State species of concern.

• Protecting the water quality of the Great Bay Estuary.

• Providing more public access opportunities on Great Bay NWR.

• Balancing the protection of historic resources with wildlife and habitat conservation.

To address these issues and develop a plan based on the refuge's establishing purposes, vision, and goals, we evaluated three alternatives for Great Bay NWR in the draft CCP/EA. These alternatives have some actions in common, such as controlling invasive species, monitoring wildlife diseases, protecting the rocky shore, reducing impacts from climate change, protecting cultural resources, and distributing refuge revenue sharing payments to the town of Newington, New Hampshire. There are other actions that differ among the alternatives. The draft CCP/EA describes each alternative in detail and relates them to the issues and concerns that arose during the planning process. Below, we provide summaries for the three Great Bay alternatives evaluated in the draft CCP/EA.

Management Alternatives

Alternative A (Current Management)

This alternative is the “No Action” alternative required by NEPA (42 U.S.C. 4321 et seq.). It describes our current management activities, including those planned, funded, or underway, and serves as the baseline against which to compare alternatives B and C. Alternative A would continue to emphasize our current biological program priorities, including maintaining impoundments for migratory birds and managing grasslands for grassland-dependent species of concern. The refuge would remain unstaffed and we would continue to rely on volunteers to help with seasonal activities. Our visitor services program would continue to focus on wildlife observation and photography, and we would continue to provide a 2-day fall deer hunt. On the Karner blue butterfly easement, we would continue to actively manage habitat for Karner blue butterflies in partnership with New Hampshire Fish and Game (NHFG).

Alternative B (Habitat Diversity and Focal Species Emphasis)

This is the Service-preferred alternative. It combines the actions we believe would best achieve the refuge's purposes, vision, and goals, and is consistent with the intent of NWRS policy on Biological Integrity, Diversity, and Environmental Health (601 FW 3). This alternative would also best respond to the issues that arose during the planning process.

Alternative B would improve our management of refuge habitats to benefit species of conservation concern in the Great Bay area and coastal New Hampshire. In particular, we would emphasize habitat for priority species such as migratory waterfowl, wading birds, forest-dependent songbirds, New England cottontails, and forest bats. We would also manage estuarine and aquatic species of concern, including shellfish and migratory fish. We would also remove the Lower Peverly Pond Dam to restore approximately 1,100 feet of stream habitat, while maintaining the dams at Upper Peverly Pond and Stubbs Pond to benefit a range of fish and wildlife species of conservation concern. We would also expand our conservation, research, and management partnerships to help restore and conserve the Great Bay estuarine ecosystem.

This alternative would enhance our visitor services programs. We would improve our trails, create new interpretive materials, expand on the existing volunteer program, and offer visitors more opportunities to learn about the refuge's history, its resources, and its surrounding area. We would also evaluate an expansion of hunting opportunities to include wild turkey and a fall bow season for deer. These expanded programs would be possible through increased staffing and a new refuge headquarters/visitor contact facility.

On the Karner blue butterfly easement, we would enhance our partnership with NHFG to help manage habitat on the easement to support this species' recovery. We would also expand the easement's visitor services program by installing new interpretive signs and trails, offering guided walks, and updating our Web site.

Alternative C (Emphasis on Natural Processes)

Alternative C primarily relies on ecosystem processes, such as natural disturbances, to affect the diversity and integrity of refuge habitats. In particular, we would no longer maintain much of the grasslands and shrublands on the refuge, allowing them to naturally transition to forest. We would remove all three of the refuge's impoundments on Peverly Brook and restore these areas to native stream habitat. We would also expand our visitor services program by creating new trails and opening up more of the refuge to public use. Under this alternative, management of the Karner blue butterfly easement would be similar to alternative B.

Comments

We solicited comments on the draft CCP/EA for Great Bay NWR from February 10 to March 19, 2012 (77 FR 7176). During the comment period, we received 25 written responses. We evaluated all of the substantive comments we received, and include a summary of those comments and our responses to them, as appendix K in the final CCP.

Selected Alternative

After considering the comments we received on our draft CCP/EA, we have made several minor changes to alternative B, including adding or revising several management strategies. These changes are described in the FONSI (appendix L in the final CCP) and in our response to public comments (appendix K in the final CCP).

We have selected alternative B to implement for Great Bay NWR, with these minor changes, for several reasons. Alternative B comprises a mix of actions that, in our professional judgment, work best towards achieving the refuge's purposes, vision, and goals, NWRS policies, and the goals of other State and regional conservation plans. We also believe that alternative B most effectively addresses key issues raised during the planning process. The basis of our decision is detailed in the FONSI (appendix L in the final CCP).

Public Availability of Documents

You can view or obtain the final CCP, including the FONSI, as indicated under ADDRESSES.

Dated: August 29, 2012.
Deborah Rocque,
Acting Regional Director, Northeast Region.

[FR Doc. 2012-23799 Filed 9-26-12; 8:45 a.m.]

BILLING CODE 4310-55-P